DEPARTMENT OF TRANSPORTATION

Federal Motor Carrier Safety Administration

[Docket No. FMCSA-2023-0143]

Truck Leasing Task Force (TLTF); Notice of Public Meeting

AGENCY: Federal Motor Carrier Safety Administration (FMCSA), Department of Transportation (DOT).

ACTION: Notice of public meeting.

SUMMARY: This notice announces a meeting of the TLTF.

DATES: The meeting will be held on Thursday, March 21, 2024, from 10 a.m.-12 p.m. and 1-3 p.m. ET. Requests for accommodations for a disability must be received by Friday, March 14. Requests to submit written materials for consideration during the meeting must be received no later than Friday, March 14.

ADDRESSES: The meeting will be a hybrid meeting, with in-person and virtual access for its entirety. The in-person portion will be held at the Mid-America Trucking Show (MATS) at the Kentucky Exposition Center in Louisville, KY. Please register in advance of the meeting at www.fmcsa.dot.gov/tltf. A copy of the agenda for the entire meeting will be made available at www.fmcsa.dot.gov/tltf at least 1 week in advance of the meeting. Once approved, copies of the meeting minutes will be available at the website following the meeting. You may visit the TLTF website at www.fmcsa.dot.gov/tltf for further information on the committee and its activities.

FOR FURTHER INFORMATION CONTACT: Ms. Shannon L. Watson, Deputy Designated Federal Officer, TLTF, FMCSA, 1200 New Jersey Avenue SE, Washington, DC 20590, (202) 360-2925, tltf@dot.gov. Any committee-related request should be sent to the person listed in this section.

SUPPLEMENTARY INFORMATION:

I. Background

Section 23009 of the Bipartisan Infrastructure Law (BIL) (Pub. L. 117-58) requires the Federal Motor Carrier Safety Administration (FMCSA) to establish the TLTF, which was set up in accordance with the Federal Advisory Committee Act (FACA), Public Law 92-463 (1972). TLTF will examine the terms, conditions, and equitability of common truck leasing arrangements, particularly as they impact owner-operators and trucking businesses subject to such agreements and submit a report on the task force's identified issues and conclusions regarding truck leasing arrangements, including recommended best practices, to the Secretary, the Secretary of Labor, and the appropriate committees of Congress. TLTF will work in coordination with the United States Department of Labor.

TLTF operates in accordance with FACA under the terms of the TLTF charter, filed February 11, 2022, and amended April 28, 2023, and renewed February 9, 2024.

II. Agenda

• TLTF will begin consideration of Task 24-2: the Impact of Truck Leasing Agreements on the Net Compensation of CMV Drivers, Including Port Drayage Drivers, and Specific Agreements Available to Drayage Drives at Ports Relating to the Clean Truck Program or Similar Programs to Decrease Emissions from Port Operations;

• A visit from Brian Stansbury, FMCSA's Chief Counsel; and

• A public comment period that will allow drivers and lessees of CMVs to tell their personal experiences with leases and to present any supporting information they would like to share to assist TLTF in making recommendations on such agreements.

III. Public Participation

The meeting will be open to the public via in-person attendance and a virtual platform. Advance registration via the website (www.fmcsa.dot.gov/tltf) is required by Friday, March 14.

DOT is committed to providing equal access to this meeting for all participants. If you need alternative formats or services due to a disability, such as sign language interpretation or other ancillary aids, please contact the person listed in the FOR FURTHER INFORMATION CONTACT section by Friday, March 14.

Oral comments from the public will be heard during designated comment periods from 11 a.m.-12 p.m. ET and 2-3 p.m. ET at the discretion of the TLTF chair and Designated Federal Officer. To accommodate as many speakers as possible, the time for each commenter will be limited to 2 minutes. Speakers are requested to submit a written copy of their remarks for inclusion in the meeting records and for circulation to TLTF members. All prepared remarks submitted on time will be accepted and considered as part of the record. Any member of the public may present a written statement to the committee at any time.

Larry W. Minor,
Associate Administrator for Policy.

[FR Doc. 2024-04612 Filed 3-4-24; 8:45 am]

BILLING CODE 4910-EX-P